DEPARTMENT OF HOMELAND SECURITY

Coast Guard

33 CFR Part 100

[Docket Number USCG-2025-0528]

RIN 1625-AA08

Special Local Regulations; Recurring Marine Events; Sector St. Petersburg

AGENCY: Coast Guard, DHS.

ACTION: Final rule.

SUMMARY: The Coast Guard is revising its existing special local regulations by adding a new recurring event to an existing table. The Coast Guard is expanding a regulated area for one event and updating the dates of existing events in the Coast Guard Southeast District Sector St. Petersburg.

DATES: This rule is effective October 9, 2025.

ADDRESSES: To view documents go to https://www.regulations.gov and search for USCG-2025-0528.

FOR FURTHER INFORMATION CONTACT: If you have questions about this rule, call or email Lieutenant Ryan McNaughton, Sector St. Petersburg Prevention Department, U.S. Coast Guard; telephone 813-918-7270, email ryan.a.mcnaughton@uscg.mil.

SUPPLEMENTARY INFORMATION:

I. Table of Abbreviations

CFR Code of Federal Regulations

DHS Department of Homeland Security

FR Federal Register

NPRM Notice of proposed rulemaking

§ Section

U.S.C. United States Code

II. Background Information, Authority, and Regulatory History

The Coast Guard is revising its recurring marine events in the geographic boundaries of the Coast Guard Southeast District Captain of the Port (COTP) St. Petersburg Zone listed in 33 CFR 100.703, table 1 to § 100.703. Under the authority in 46 U.S.C. 70041, the COTP is issuing this rule, which is needed to keep the public is informed of the most up to date recurring special local regulations. The previous list under § 100.703, Table 1 to § 100.703 required changes to three existing special local regulations and the addition of one new special local regulation. In response, on July 21, 2025, the Coast Guard published a notice of proposed rulemaking (NPRM) titled Special Local Regulations; Recurring Marine Events; Sector St. Petersburg (90 FR 34200). There we stated why we issued the NPRM and invited comments on our proposed regulatory action related to the revisions of the special local regulations. During the comment period that ended August 20, 2025, we received 1 comment.

III. Discussion of Comments, Changes, and the Rule

As noted above, we received 1 comment on our NPRM published July 21, 2025. The comment was in favor of the changes. There are no changes in the regulatory text of this rule from the proposed rule in the NPRM. This rule is revising its existing special local regulations by adding a new recurring event to an existing table. The Coast Guard is expanding a regulated area for one event and updating the dates of existing events in the Coast Guard Southeast District Sector St. Petersburg. This action is necessary to provide for the safety of life on these navigable waters.

IV. Regulatory Analyses

We developed this rule after considering numerous statutes and Executive orders related to rulemaking. Below we summarize our analyses based on a number of these statutes and Executive orders.

A. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard received no comments from the Small Business Administration on this rulemaking.

The Coast Guard certifies under 5 U.S.C. 605(b) that this rule will not have a significant economic impact on a substantial number of small entities for the following reasons. Vessel traffic will be able to safely transit around the special local regulations which will impact a limited size and duration and usually will not affect high vessel traffic areas. Moreover, the Coast Guard will issue a local maritime community by Local Notice to Mariners, Broadcast Notice to Mariners via VHF-FM marine channel 16, and the rule would allow vessels to seek permission to enter the regulated area.

Under section 213(a) of the Small Business Regulatory Enforcement Fairness Act of 1996 (Pub. L. 104-121), if this rule will affect your small business, organization, or governmental jurisdiction and you have questions, contact the person listed in the FOR FURTHER INFORMATION CONTACT section.

Small businesses may send comments to the Small Business and Agriculture Regulatory Enforcement Ombudsman and the Regional Small Business Regulatory Fairness Boards by calling 1-888-REG-FAIR (1-888-734-3247). The Coast Guard will not retaliate against small entities that question or complain about this rule or any policy or action of the Coast Guard.

B. Collection of Information

This rule will not call for a new collection of information under the Paperwork Reduction Act of 1995 (44 U.S.C. 3501-3520).

C. Federalism and Indian Tribal Governments

We have analyzed this rule under Executive Order 13132, Federalism, and have determined that it is consistent with the fundamental federalism principles and preemption requirements in that Order.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

D. Unfunded Mandates Reform Act

As required by The Unfunded Mandates Reform Act of 1995 (2 U.S.C. 1531-1538), the Coast Guard certifies that this rule will not result in an annual expenditure of $100,000,000 or more (adjusted for inflation) by a State, local, or tribal government, in the aggregate, or by the private sector.

E. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment.

This rule is administrative in nature and updates the table to include a new event and change the dates on others. It is categorically excluded from further review under paragraph L61 of Appendix A, Table 1 of DHS Instruction Manual 023-01-001-01, Rev. 1.

List of Subjects in 33 CFR Part 100

Harbors, Marine safety, Navigation (water), Reporting and recordkeeping requirements, Security measures, Waterways.

For the reasons discussed in the preamble, the Coast Guard amends 33 CFR part 100 as follows:

PART 100—SAFETY OF LIFE ON NAVIGABLE WATERS

1. The authority citation for part 100 continues to read as follows:

Authority: 46 U.S.C. 70041; 33 CFR 1.05-1.

2. In § 100.703, revise table 1 read as follows:

§ 100.703 Special Local Regulations; Recurring Marine Events, Sector St. Petersburg.

* * * * *

Table 1 to § 100.703—Special Local Regulations; Recurring Marine Events, Sector St. Petersburg
Date/time | Event/sponsor | Location | Regulated area
1. One Saturday in January Time (Approximate): 11:30 a.m. to 2 p.m | Gasparilla Invasion and Parade/Ye Mystic Krewe of Gasparilla | Tampa, Florida | Location: A regulated area is established consisting of the following waters of Hillsborough Bay and its tributaries north of 27°51′18″ N and south of the John F. Kennedy Bridge: Hillsborough Cut “D” Channel, Seddon Channel, Sparkman Channel and the Hillsborough River south of the John F. Kennedy Bridge.
|  |  | Additional Regulation:
|  |  | (1) Entrance into the regulated area is prohibited to all commercial marine traffic from 9 a.m. to 6 p.m. EST on the day of the event.
|  |  | (2) The regulated area will include a 100 yard Safety Zone around the vessel JOSE GASPAR while docked at the Tampa Yacht Club until 6 p.m. EST on the day of the event.
|  |  | (3) The regulated area is a “no wake” zone.
|  |  | (4) All vessels within the regulated area shall stay 50 feet away from and give way to all officially entered vessels in parade formation in the Gasparilla Marine Parade.
|  |  | (5) When within the marked channels of the parade route, vessels participating in the Gasparilla Marine Parade may not exceed the minimum speed necessary to maintain steerage.
|  |  | (6) Jet skis and vessels without mechanical propulsion are prohibited from the parade route.
|  |  | (7) Vessels less than 10 feet in length are prohibited from the parade route unless capable of safely participating.
|  |  | (8) Vessels found to be unsafe to participate at the discretion of a present Law Enforcement Officer are prohibited from the parade route.
|  |  | (9) Northbound vessels in excess of 65 feet in length without mooring arrangement made prior to the date of the event are prohibited from entering Seddon Channel unless the vessel is officially entered in the Gasparilla Marine Parade.
|  |  | (10) Vessels not officially entered in the Gasparilla Marine Parade may not enter the parade staging area box within the following coordinates: 27°53′53″ N, 082°27′47″ W; 27°53′22″ N, 082°27′10″ W; 27°52′36″ N, 082°27′55″ W; 27°53′02″ N, 082°28′31″ W.
2. One Saturday in February Time (Approximate): 9:00 a.m. to 9:00 p.m | Bradenton Area River Regatta/City of Bradenton | Bradenton, FL | Location(s): Enforcement Area #1. All waters of the Manatee River between the Green Bridge and the CSX Train Trestle contained within the following points: 27°30′43″ N, 082°34′20″ W, thence to position 27°30′44″ N, 082°34′09″ W, thence to position 27°30′ 00″ N, 082°34′04″ W, thence to position 27°29′58″ N, 082°34′15″ W, thence back to the original position, 27°30′43″ N, 082°34′20″ W.
|  |  | Enforcement Area #2. All waters of the Manatee River contained within the following points: 27°30′35″ N, 082°34′37″ W, thence to position 27°30′35″ N, 082°34′26″ W, thence to position 27°30′26″ N, 082°34′26″ W, thence to position 27°30′26″ N, 082°34′37″ W, thence back to the original position, 27°30′35″ N, 082°34′37″ W.
3. One weekend (Friday, Saturday, and Sunday) in March Time (Approximate): 8:00 a.m. to 5:00 p.m | Gulfport Grand Prix/Gulfport Grand Prix LLC | Gulfport, FL | Location(s): (1) Race Area. All waters of Boca de Ciego contained within the following points: 27°44′10″ N, 082°42′29″ W, thence to position 27°44′07″ N, 082°42′40″ W, thence to position 27°44′06″ N, 082°42′40″ W, thence to position 27°44′04″ N, 082°42′29″ W, thence to position 27°44′07″ N, 082°42′19″ W, thence to position 27°44′08″ N, 082°42′19″ W, thence back to the original position, 27°44′10″ N, 082°42′29″ W.
|  |  | (2) Buffer Zone. All waters of Boca de Ciego encompassed within the following points: 27°44′10″ N, 082°42′47″ W, thence to position 27°44′01″ N, 082°42′44″ W, thence to position 27°44′01″ N, 082°42′14″ W, thence to position 27°44′15″ N, 082°42′14″ W.
4. One weekend (Friday, Saturday and Sunday) in July Time (Approximate): 8:00 a.m. to 6:00 p.m | Sarasota Powerboat Grand Prix/Powerboat P-1 USA, LLC. | Sarasota, FL | Location: All waters of the Gulf of America contained within the following points: 27°18′44″ N, 082°36′14″ W, thence to position 27°19′09″ N, 082°35′13″ W, thence to position 27°17′42″, N, 082°34′00″ W, thence to position 27°16′43″ N, 082°34′49″ W, thence back to the original position, 27°18′44″ N, 082°36′14″ W.
5. One weekend (Friday, Saturday and Sunday in August Time (Approximate): 8:00 a.m. to 8:00 p.m | Clearwater AquaX Grand Prix/Powerboat P-1 USA, LLC | Clearwater, FL | Location: All waters of the Gulf of American contained within the following points: 27°57′11″ N, 82°50′1″ W, thence to 27°57′13″ N, 82°50′19″ W, thence to 27°57′55″ N, 82°50′10″ W, thence to 27°57′53″ N, 82°49′65″ and along the shoreline back to the beginning point.
6. One weekend (Friday, Saturday and Sunday) in September Time (Approximate): 8:00 a.m. to 6:00 p.m | St. Petersburg Powerboat Grand Prix | St. Petersburg, FL | Location: All waters of the Tampa Bay encompassed within the following points: 27°46′56.22″ N, 082°36′55.50″W, thence to position 27°47′08.82″ N, 082°34′33.24″ W, thence to position 27°46′06.96″ N, 082°34′29.04″ W, thence to position 27°45′59.22″ N, 082°37′02.88″ W, thence back to the original position 27°46′24.24″ N, 082°37′30.24″ W.
7. One weekend (Saturday and Sunday) in September Time (Approximate): 8:00 a.m. to 5:00 p.m | Clearwater Offshore Nationals/Race World Offshore | Clearwater, FL | Locations: (1) Race Area. All waters of the Gulf of America contained within the following points: 27°58′34″ N, 82°50′09″ W, thence to position 27°58′32″ N, 82°50′02″ W, thence to position 28°00′12″ N, 82°50′10″ W, thence to position 28°00′13″ N, 82°50′10″ W, thence back to the original position, 27°58′34″ N, 82°50′09″ W.
|  |  | (2) Spectator Area. All waters of Gulf of America seaward no less than 150 yards from the race area and as agreed upon by the Coast Guard and race officials.
|  |  | (3) Enforcement Area. All waters of the Gulf of America encompassed within the following points: 28°58′40″ N, 82°50′37″ W, thence to position 28°00′57″ N, 82°49′45″ W, thence to position 27°58′32″ N, 82°50′32″ W, thence to position 27°58′23″ N, 82°49′53″ W, thence back to position 28°58′40″ N, 82°50′37″ W.
8. One Thursday, Friday, and Saturday in October Time (Approximate): 10:00 a.m. to 5:00 p.m | Roar Offshore/OPA Racing LLC | Fort Myers Beach, FL | Location: All waters of the Gulf of America west of Fort Myers Beach contained within the following points: 26°26′27″ N, 081°55′55″ W, thence to position 26°25′33″ N, longitude 081°56′34″ W, thence to position 26°26′38″ N, 081°58′40″ W, thence to position 26°27′25″ N, 081°58′8″ W, thence back to the original position 26°26′27″ N, 081°55′55″ W.
9. One weekend (Friday, Saturday, and Sunday) in October Time (Approximate): 8:00 a.m. to 6:00 p.m | OPA World Championships/Englewood Beach Waterfest | Englewood Beach, FL | Location: All waters of the Gulf of America encompassed within the following point: 26°54′15″ N, 82°20′55″ W, thence to position 26°53′53″ N, 82°21′54″ W, thence to position 26°55′54″ N, 82°23′1″ W, thence to position 26°56′11″ N, 82°22′6″ W, thence back to the original position 26°54′15″ N, 82°20′55″ W.

Dated: September 4, 2025.
Courtney A. Sergent,
Captain of the Port, Sector St. Petersburg.

[FR Doc. 2025-17319 Filed 9-8-25; 8:45 am]

BILLING CODE 9110-04-P